DEPARTMENT OF COMMERCE

National Oceanic and Atmospheric Administration

Agency Information Collection Activities; Submission to the Office of Management and Budget (OMB) for Review and Approval; Comment Request; Southeast Region Family of Forms

AGENCY: National Oceanic & Atmospheric Administration (NOAA), Commerce.

ACTION: Notice of Information Collection; request for comment.

SUMMARY: The Department of Commerce, in accordance with the Paperwork Reduction Act of 1995 (PRA), invites the general public and other Federal agencies to comment on proposed, and continuing information collections, which helps to assess the impact of information collection requirements and minimize the public's reporting burden. The purpose of this notice is to allow for 60 days of public comment preceding submission of the collection to OMB.

DATES: To ensure consideration, comments regarding this proposed information collection must be received by December 13, 2021.

ADDRESSES: Interested persons are invited to submit written comments to Adrienne Thomas, NOAA PRA Officer, at adrienne.thomas@noaa.gov. Please reference OMB Control Number “0648-0016” in the subject line of your comments. Do not submit confidential business information or otherwise sensitive or protected information.

FOR FURTHER INFORMATION CONTACT: Requests for additional information or specific questions related to collection activities should be directed to Rich Malinowski, National Marine Fisheries Service (NMFS), Sustainable Fisheries Division, 263 13th Avenue S, St. Petersburg, Florida, 33701, phone: (727) 824-5305, email: rich.malinowski@noaa.gov.

SUPPLEMENTARY INFORMATION:

I. Abstract

This request is for an extension and revision of a current information collection.

Participants in most federally managed fisheries in the NMFS Southeast Region are currently required to keep and submit catch and effort logbooks from their fishing trips. A subset of fishermen on these vessels also provides information on the species and quantities of fish, shellfish, marine turtles, and marine mammals that are caught and discarded or have interacted with the fishing gear. A subset of fishermen on these vessels also provides information about dockside prices, trip operating costs, and annual fixed costs. An intercept survey for vessels with Federal charter vessel/headboat permits is designed to support and validate the electronic logbooks.

The data are used for scientific analyses that support critical conservation and management decisions made by national and international fishery management organizations. Interaction reports are needed for fishery management planning and to help protect endangered species and marine mammals. Price and cost data will be used in analyses of the economic effects of proposed and existing regulations.

Regulatory Amendment 29 effective July 15, 2020 would require at least one descending device to be on board and ready for use on commercial, for-hire, and private recreational vessels while fishing for or possessing snapper-grouper species in the South Atlantic. Most recently the Descend Act was passed, which added a new section 321 to the Magnuson-Stevens Fishery Conservation and Management Act. This requires commercial and recreational fishermen to possess a venting tool or descending device that is rigged and ready for use when fishing for reef fish in the Gulf of Mexico Exclusive Economic Zone.

Descending devices increase survivability from barotrauma, which is injury caused by internal gas expansion when reeled up from depth. In addition to being asked to report the number of fish released respondents would be asked to report the method used to release fish as part of their current logbook submissions. The purpose of asking respondents to distinguish between fish releases without descending devices, fish released with gas bladders vented, and fish released with descending devices is to provide data needed by NMFS to accurately account for fishing mortality when performing stock assessments.

II. Method of Collection

The information is submitted on paper forms and electronic transmissions. Logbooks are completed daily and submitted on either a per trip, weekly, or monthly basis, depending on the fishery. Fixed costs are submitted on an annual basis. Other information is submitted on a per trip basis.

For the proposed intercept survey, information would be collected through in-person interviews at verified landing locations.

III. Data

OMB Control Number: 0648-0016.

Form Number(s): None.

Type of Review: Regular submission—extension and revision of a current information collection.

Affected Public: Businesses or other for-profit organizations; individuals.

Estimated Number of Respondents: 6,867.

Estimated Time per Response: Annual fixed-cost report, 45 minutes; discard logbook, 15 minutes; headboat, charter vessel, golden crab, reef fish-mackerel, economic cost per trip, wreckfish, 10 minutes; no-fishing report for golden crab, reef fish-mackerel, charter vessels, and wreckfish, 2 minutes; installation of a vessel monitoring unit, 5 hours; landing location request and power-down exemption request, 5 minutes; trip declaration, 2 minutes; and proposed intercept survey, 15 minutes.

Estimated Total Annual Burden Hours: 69,431.

Estimated Total Annual Cost to Public: $1,816,314 in record-keeping or reporting cost.

Respondent's Obligation: Mandatory.

Legal Authority: 16 U.S.C. 1801 et seq.

IV. Request for Comments

NMFS is soliciting public comments to: (a) Evaluate whether the proposed information collection is necessary for the proper functions of the Department, including whether the information will have practical utility; (b) Evaluate the accuracy of the time and cost burden estimates for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. NMFS will include or summarize each comment in our request to OMB to approve this information collection request. Before including your address, phone number, email address, or other personal identifying information in your comment, you should be aware that your entire comment, including your personal identifying information, may be made publicly available at any time. While you may ask us in your comment to withhold your personal identifying information from public review, NMFS cannot guarantee that will occur.

Sheleen Dumas,
Department PRA Clearance Officer, Office of the Chief Information Officer, Commerce Department.

[FR Doc. 2021-22148 Filed 10-8-21; 8:45 am]

BILLING CODE 3510-22-P